DEPARTMENT OF AGRICULTURE

Rogue/Umpqua Resource Advisory Committee (RAC); Meeting

AGENCY: Forest Service, USDA.

ACTION: Notice of meeting.

SUMMARY: The Rogue/Umpqua Resource Advisory Committee (RAC) will meet on Monday, February 11, 2002. The meeting is scheduled to begin at 10 a.m. and conclude at approximately 4 p.m. The meeting will be held at the La Quinta Inn, 243 NE Morgan Lane in Grants Pass. The tentative agenda includes (1) Review of Title II projects proposed by the Forest Service and (2) Public Forum. The Public Forum is scheduled to begin at 3 p.m. Time allotted for individual presentations will be limited to 3-4 minutes. Written comments are encouraged, particularly if the material cannot be presented within the time limits for the Public Forum. Written comments may be submitted prior to the February 11th meeting by sending them to Designated Federal Official Jim Caplan at the address given below.

FOR FURTHER INFORMATION CONTACT: For more information regarding this meeting, contact Designated Federal Official Jim Caplan; Umpqua National Forest; PO Box 1008, Roseburg, Oregon 97470; (541) 957-3203.

Dated: January 28, 2002.
James Caplan,
Forest Supervisor, Umpqua National Forest.

[FR Doc. 02-2566 Filed 2-1-02; 8:45 am]

BILLING CODE 3410-11-M